FEDERAL MINE SAFETY AND HEALTH REVIEW COMMISSION

Sunshine Act Meeting Notice

July 8, 2003.

Time and Date: 10 a.m., Thursday, July 17, 2003.

Place: Hearing Room, 9th Floor, 601 New Jersey Avenue, NW., Washington, DC.

Status: Open.

Matters to be Considered: The Commission will consider and act upon the following in open session: Secretary of Labor v. Cougar Coal Co. and Leslie B. Combs, Docket Nos. KENT 2000-133 and KENT 2000-277. (Issues include whether the judge erred in determining that Cougar Coal's violation of 30 CFR 77.501 was not a result of the operator's unwarrantable failure to comply with the regulation; whether the judge erred in determining that Leslie Combs was not liable for the violation of 30 CFR 77.501 under section 110(c) of the Federal Mine Safety and Health Act of 1977; and whether the judge erred in dismissing alleged violations of 30 CFR 50.10 and 50.12 on the basis that no “accident” occurred.)

Any person attending this meeting who requires special accessibility features and/or auxiliary aids, such as sign language interpreters, must inform the Commission in advance of those needs. Subject to 29 CFR 2706.150(a)(3) and 2706.160(d).

Contact Person for More Info: Jean Ellen, (202) 434-9950, (202) 708-9300 for TDD Relay, 1-800-877-8339 for toll free.

Jean H. Ellen,
Chief Docket Clerk.

[FR Doc. 03-18111 Filed 7-14-03; 1:17 pm]

BILLING CODE 6735-01-M